DEPARTMENT OF AGRICULTURE

Submission for OMB Review; Comment Request

September 27, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Direct Verification Evaluation Study.

OMB Control Number: 0584-NEW.

Summary of Collection: The Child Nutrition and WIC Reauthorization Act of 2004 (Public Law 108-265) expanded authorization for local education agencies to directly verify eligibility for the National School Lunch Program (NSLP) without contacting households, using data from other means-tested programs such as the Food Stamp Program, Temporary Assistance to Needy Families, Food Distribution Program on Indian Reservations, Medicaid, and the State Children's Health Insurance Program. Direct verification is intended to reduce burden on households and Local education agencies (LEAs), improve program operations, and reduce the number of children losing NSLP benefits due to household nonresponse to verification requests.

Need and Use of the Information: The Food and Nutrition Service (FNS) will collect information to understand the methods of direct verification and their effectiveness, the Direct Verification Pilot Study will systematically collect data from eight states. FNS proposes to conduct four data collection activities: Interviews with State CN and Medicaid agencies; survey of LEAs; administrative data collection from LEAs and State agencies; and telephone interviews with LEAs. Without the data FNS will not be able to assess the effectiveness of NSLP direct verification, and FNS will not be able to disseminate information about DV-M implementation to assist agencies that do not currently use DV-M.

Description of Respondents: State, Local, or Tribal Government.

Number of Respondents: 364.

Frequency of Responses: Recordkeeping; Report: Annually.

Total Burden Hours: 379.

Ruth Brown,
Departmental Information Collection Clearance Officer.

[FR Doc. E7-19439 Filed 10-1-07; 8:45 am]

BILLING CODE 3410-30-P